DEPARTMENT OF THE INTERIOR

National Park Service

Elk and Vegetation Management Plan, Draft Environmental Impact Statement, Rocky Mountain National Park, CO

AGENCY: National Park Service, Department of the Interior.

ACTION: Notice of availability of the Draft Environmental Impact Statement for the Elk and Vegetation Management Plan, Rocky Mountain National Park.

SUMMARY: Pursuant to the National Environmental Policy Act of 1969, 42 U.S.C. 4332(2)(C), the National Park Service announces the availability of a Draft Environmental Impact Statement for the Elk and Vegetation Management Plan for Rocky Mountain National Park, Colorado.

DATES: The National Park Service will accept comments on the Draft Environmental Impact Statement from the public through July 4, 2006. Public meetings will be held during the public comment period. Specific dates, times and locations will be announced in the local and regional news media and on the project Web page (http://www.nps.gov/romo/planning/elkvegetation/), and will be available by contacting Vaughn Baker, Superintendent of Rocky Mountain National Park.

ADDRESSES: Information will be available for public review and comment (1) online at http://parkplanning.nps.gov, (2) in the office of the Superintendent, Vaughn Baker, 1000 West Hwy. 36, Rocky Mountain National Park, Estes Park, Colorado 80517, 970-586-1206, (3) at all Rocky Mountain National Park Visitor Centers and (4) at the Estes Park Public Library, 335 East Elkhorn Ave., Estes Park, Colorado 80517, 970-586-8116.

FOR FURTHER INFORMATION CONTACT: Therese Johnson, 1000 West Hwy. 36, Rocky Mountain National Park, Estes Park, Colorado 80517, 970-586-1262, therese_johnson@nps.gov.

SUPPLEMENTARY INFORMATION: If you wish to comment, you may submit your comments by any one of several methods. You may mail comments to Attn: EVMP, Therese Johnson (address above). You may also comment via the Internet at http://parkplanning.nps.gov. If you do not receive a confirmation from the system that we have received your Internet message, contact Therese Johnson (number above). Finally, you may hand-deliver comments to Beaver Meadows Visitor Center, 1000 West Hwy. 36, Rocky Mountain National Park, Estes Park, Colorado 80517. It is the practice of the NPS to make all comments, including names and addresses of respondents who provide that information, available for public review following the conclusion of the [NEPA] process. Individuals may request that the NPS withhold their name and/or address from public disclosure. If you wish to do this, you must state this prominently at the beginning of your comment. Commentators using the website can make such a request by checking the box “keep my contact information private.” NPS will honor such requests to the extent allowable by law, but you should be aware that NPS may still be required to disclose your name and address pursuant to the Freedom of Information Act.

Dated: March 15, 2006.
William E. Wellman,
Acting Director, Intermountain Region, National Park Service.

[FR Doc. E6-5939 Filed 4-19-06; 8:45 am]

BILLING CODE 4310-D8-P